DEPARTMENT OF JUSTICE

Antitrust Division

Notice Pursuant to the National Cooperative Research and Production Act of 1993—BDA Administration Corporation D/B/A Blu-ray Disc Association

Notice is hereby given that, on September 20, 2004, pursuant to section 6(a) of the National Cooperative Research and Production Act of 1993, 15 U.S.C. 4301 et seq. (“the Act”), BDA Administration Corporation D/B/A Blu-ray Disc Association (“BDA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: BDA Administration Corporation D/B/A Blu-ray Disc Association, Universal City, CA. The nature and scope of BDA's standards development activities are: (1) To establish Blu-ray Disc Formats for those applications that would be in the best interests of consumers and users, including revisions, improvements and enhancements thereto; (2) to organize activities to verify compliance with the Blu-ray Disc Formats, thus enabling the board acceptance of the Blu-ray Disc Formats; (3) to promote the Blu-ray Disc Formats for recording, playback, storage and distribution of large volume content, including high definition content; and (4) to provide useful information to those who are interested in supporting the Blu-ray Disc Formats.

Dorothy B. Fountain,
Deputy Director of Operations Antitrust Division.

[FR Doc. 04-24563 Filed 11-2-04; 8:45 am]

BILLING CODE 4410-11-M